DEPARTMENT OF THE INTERIOR

Bureau of Ocean Energy Management, Regulation and Enforcement

[Docket No. BOEM-2010-0050]

BOEMRE Information Collection Activity: 1010-0043, Oil and Gas Well-Workover Operations, Extension of a Collection; Submitted for Office of Management and Budget (OMB) Review; Comment Request

AGENCY: Bureau of Ocean Energy Management, Regulation and Enforcement (BOEMRE), Interior.

ACTION: Notice of extension of an information collection (1010-0043).

SUMMARY: To comply with the Paperwork Reduction Act of 1995 (PRA), we are notifying the public that we have submitted to OMB an information collection request (ICR) to renew approval of the paperwork requirements in the regulations under 30 CFR 250, subpart F, “Oil and Gas Well-Workover Operations,” and related documents. This notice also provides the public a second opportunity to comment on the paperwork burden of these regulatory requirements.

DATE: Submit written comments by November 29, 2010.

ADDRESSES: Submit comments by either fax (202) 395-5806 or e-mail (OIRA_DOCKET@omb.eop.gov) directly to the Office of Information and Regulatory Affairs, OMB, Attention: Desk Officer for the Department of the Interior (1010-0043). Please also submit a copy of your comments to BOEMRE by any of the means below.

• Electronically: go to http://www.regulations.gov. In the entry titled “Enter Keyword or ID,” enter docket ID BOEM-2010-0050 then click search. Follow the instructions to submit public comments and view supporting and related materials available for this collection. BOEMRE will post all comments.

• E-mail cheryl.blundon@boemre.gov. Mail or hand-carry comments to: Department of the Interior; Bureau of Ocean Energy Management, Regulation and Enforcement; Attention: Cheryl Blundon; 381 Elden Street, MS-4024; Herndon, Virginia 20170-4817. Please reference “ICR 1010-0043” in your comment and include your name and return address.

FOR FURTHER INFORMATION CONTACT: Cheryl Blundon, Regulations and Standards Branch, (703) 787-1607. You may also contact Cheryl Blundon to obtain a copy, at no cost, of the regulation that requires the subject collection of information.

SUPPLEMENTARY INFORMATION: Title: 30 CFR 250, subpart F, Oil and Gas Well-Workover Operations.

OMB Control Number: 1010-0043.

Abstract: The Outer Continental Shelf (OCS) Lands Act, as amended (43 U.S.C. 1331 et seq. and 43 U.S.C. 1801 et seq.), authorizes the Secretary of the Interior (Secretary) to prescribe rules and regulations to manage the mineral resources of the OCS. Such rules and regulations will apply to all operations conducted under a lease, right-of-use and easement, or pipeline right-of-way. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 5(a) of the OCS Lands Act requires the Secretary to prescribe rules and regulations “to provide for the prevention of waste, and conservation of the natural resources of the Outer Continental Shelf, and the protection of correlative rights therein” and to include provisions “for the prompt and efficient exploration and development of a lease area.” These authorities and responsibilities are among those delegated to BOEMRE to ensure that operations on the OCS will meet statutory requirements; provide for safety and protection of the environment; and result in diligent exploration, development, and production of OCS leases.

This information collection request addresses the regulations at 30 CFR 250, Subpart F, Oil and Gas Well-Workover Operations and the associated supplementary Notices to Lessees and Operators (NTLs) that BOEMRE issues to clarify, supplement, or provide additional guidance on some aspects of our regulations.

Responses are mandatory. No questions of a sensitive nature are asked. BOEMRE protects information considered proprietary according to the Freedom of Information Act (5 U.S.C. 552) and its implementing regulations (43 CFR part 2), and 30 CFR 250.197, “Data and information to be made available to the public or for limited inspection.”

BOEMRE District Supervisors use the information collected to analyze and evaluate planned well-workover operations to ensure that these operations result in personnel safety and protection of the environment. They use this evaluation in making decisions to approve, disapprove, or to require modification to the proposed well-workover operations. Specifically, BOEMRE uses the information collected to:

• Review log entries of crew meetings to verify that safety procedures have been properly reviewed.

• Review well-workover procedures relating to hydrogen sulfide (H2S) to ensure the safety of the crew in the event of encountering H2S.

• Review well-workover diagrams and procedures to ensure the safety of well-workover operations.

• Verify that the crown block safety device is operating and can be expected to function and avoid accidents.

• Verify that the proposed operation of the annular preventer is technically correct and will provide adequate protection for personnel, property, and natural resources.

• Verify the reasons for postponing blowout preventer (BOP) tests, verify the state of readiness of the equipment and ascertain that the equipment meets safety standards and requirements, ensure that BOP tests have been conducted in the manner and frequency to promote personnel safety and protect natural resources. Specific testing information must be recorded to verify that the proper test procedures were followed.

• Assure that the well-workover operations are conducted on well casing that is structurally competent.

Frequency: On occasion; varies by section.

Description of Respondents: Potential respondents comprise Federal OCS oil, gas, or sulphur lessees and/or operators.

Estimated Reporting and Recordkeeping Hour Burden: The estimated annual hour burden for this information collection is a total of 24,719 hours. The following chart details the individual components and estimated hour burdens. In calculating the burdens, we assumed that respondents perform certain requirements in the normal course of their activities. We consider these to be usual and customary and took that into account in estimating the burden.

Citation 30 CFR 250 | Reporting requirement | Hour burden | Average No. of annual responses | Annual burden hours (rounded)
Requests
602 | Request exceptions prior to moving well-workover equipment | 1 | 766 requests | 766
605; 613; 615(a), (e)(4); 616(d) | Request approval to begin subsea well-workover operations; submit Forms MMS-124 (include, if required, alternate procedures and equipment; stump test procedures plan) and MMS-125 | Burden covered under 1010-0141 |  | 0
612 | Request establishment/amendment/cancellation of field well-workover rules | 5 | 2 requests | 10
616(a) | Request exception to rated working pressure of the BOP equipment; request exception to annular-type BOP testing | 1.5 | 187 requests | 281
600-618 | General departure and alternative compliance requests not specifically covered elsewhere in Subpart F regulations | 2 | 200 requests | 400
Subtotal | 1,155 responses | 1,457 hours
Posting
614 | Post number of stands of drill pipe or workover string and drill collars that may be pulled prior to filling the hole and equivalent well-control fluid volume | 0.25 | 844 postings | 211
Subtotal | 844 responses | 211 hours
Submittals/Notifications
602 | Notify BOEMRE of any rig movement within Gulf of Mexico (Form MMS-144) | Burden covered under 1010-0150 |  | 0
617(b) | Submit results of pressure test, caliper, or otherwise evaluate tubing & wellhead equipment casing (every 30 days during prolonged operations) | 4 | 88 reports | 352
617(c) | Notify BOEMRE if sustained casing pressure is observed on a well | 1 | 57 notifications | 57
Subtotal | 145 responses | 409 hours
Record/Document
606 | Instruct crew members in safety requirements of operations to be performed; document meetings | 1 | 868 workovers × 5 meetings = 4,340 | 4,340
611 | Document results of traveling-block safety device | 1 | 868 workovers × 3 results = 2,604 | 2,604
616(a), (f) | Record test pressures during BOP and coiled tubing tests for well-workovers on a pressure chart or with a digital recorder; certify the information is correct | 2 | 868 workovers × 3 recordings = 2,604 | 5,208
616(a), (g) | Record time, date, and results of all pressure tests, actuations, inspections, and crew drills of the BOP system components and risers in the operations log during well-workovers; retain records for 2 years | 4 | 868 workovers × 3 recordings = 2,604 | 10,416
616(b)(2) | Record reason for postponing BOP system tests | 0.5 | 148 postponed tests | 74
Subtotal | 12,300 responses | 22,642 hours
Total Burden | 14,444 responses | 24,719 hours

Estimated Reporting and Recordkeeping Non-Hour Cost Burden: We have identified no paperwork non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 22, 2010, we published a Federal Register notice (75 FR 13570) announcing that we would submit this ICR to OMB for approval. The notice provided the required 60-day comment period. In addition, 250.199 provides the OMB control number for the information collection requirements imposed by the 30 CFR 250 regulations. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by November 29, 2010.

Public Availability of Comments: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: September 1, 2010.
Doug Slitor,
Acting Chief, Office of Offshore Regulatory Programs.

[FR Doc. 2010-27443 Filed 10-28-10; 8:45 am]

BILLING CODE 4310-MR-P